ENVIRONMENTAL PROTECTION AGENCY

[ER-FRL-9005-7]

Environmental Impacts Statements; Notice of Availability

Responsible Agency: Office of Federal Activities, General Information (202) 564-7146 or http://www.epa.gov/compliance/nepa/.

Weekly receipt of Environmental Impact Statements Filed 10/15/2012 Through 10/19/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION:

As of October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120334, Draft EIS, USFS, OR, Oregon Dunes NRA Management Area 10(C) Designated Routes Project, Central Coast Ranger District, Oregon Dunes National Recreation Area, Siuslaw National Forest, Coos, Douglas, and Lane Counties, OR, Comment Period Ends: 12/10/2012, Contact: Angie Morris 541-271-6040.

EIS No. 20120335, Final EIS, USFWS, CA, Tehachapi Uplands Multiple Species Habitat Conservation Plan (TUMSHCP), Propose Issuance of a 50-Year Incidental Take Permit for 27 Federal-and State-Listed and Unlisted Species, New Information and a Revised Range of Alternatives, Kern County, CA, Review Period Ends: 11/26/2012, Contact: Roger Root 805-644-1766.

EIS No. 20120336, Draft EIS, USACE, TX, Luce Bayou Interbasin Transfer Project, Harris and Liberty Counties, TX, Comment Period Ends: 12/10/2012, Contact: Jayson Hudson 409-766-3108.

EIS No. 20120337, Draft EIS, FHWA, AR, Northwest Arkansas Regional Airport Intermodal Access Road, Benton County, AR, Comment Period Ends: 12/14/2012, Contact: Randal Looney 501-324-5625.

EIS No. 20120338, Final EIS, USACE, CA, Isabella Lake Dam Safety Modification Project, To Remediate Seismic, Seepage, and Hydrologic Deficiencies in the Main Dam, Spillway and Auxiliary Dam, Kern County, CA, Review Period Ends: 11/26/2012, Contact: Carlos Lazo 916-557-5158.

EIS No. 20120339, Final EIS, USACE, AK, Alaska Stand Alone Gas Pipeline, Construction and Operation of a 737 mile Pipeline to Transport Supply of Natural Gas and Natural Gas Liquids from Alaska's North Slope to Fairbanks, Anchorage and the Cook Inlet Area by 2019, USACE Section 10 and 404 Permits, NPDES Permit, AK, Review Period Ends: 11/26/2012, Contact: Mary Romero 907-753-2773.

EIS No. 20120340, Draft EIS, FHWA, IN, I-69 Evansville to Indianapolis, Tier 2, Indiana Project, Section 5, Bloomington to Martinsville, Monroe and Morgan Counties, IN, Comment Period Ends: 01/02/2013, Contact: Michelle Allen 317-226-7344.

EIS No. 20120341, Draft EIS, USFS, AK, Big Thorne Project, Proposes to Harvest Timber, Build New Roads, and Reconstruct Roads, Thorne Bay Ranger District, Tongass National Forest, AK, Comment Period Ends: 12/10/2012, Contact: Frank W. Roberts 907-828-3250.

EIS No. 20120342, Draft EIS, GSA, VA, U.S. Department of State Bureau of Diplomatic Security, Foreign Affairs Security Training Center (FASTC), Nottoway County, VA, Comment Period Ends: 12/10/2012, Contact: Abigail Low 215-446-4815.

EIS No. 20120343, Draft EIS, FHWA, WI, West Waukesha Bypass County TT, from I-94 to WIS 59, Waukesha County, WI, Comment Period Ends: 12/10/2012, Contact: George Poirier 608-829-7500.

Amended Notices

EIS No. 20120279, Draft EIS, VA, CA, San Francisco Veterans Affairs Medical Center (SFVAMC) Long Range Development Plan, Implementation, Fort Miley, San Francisco County, CA, Comment Period Ends: 10/31/2012, Contact: Allan Federman 415-221-4810.

Revision to FR Notice Published 08/31/2012; Extending Comment Period from 10/16/2012 to 10/31/2012.

EIS No. 20120284, Draft EIS, USFS, CO, White River National Forest Oil and Gas Leasing, Eagle, Garfield, Gunnison, Mesa, Moffat, Pitkin, Rio Blanco, Routt, and Summit Counties, CO, Comment Period Ends: 10/30/2012, Contact: David Francomb 970-963-2266, ext. 3136.

Revision to FR Notice Published 08/31/2012;

Extending Comment Period from

10/30/2012 to 11/30/2012.

Dated: October 23, 2012.
Cliff Rader,
Director, NEPA Compliance Division, Office of Federal Activities.

[FR Doc. 2012-26377 Filed 10-25-12; 8:45 am]

BILLING CODE 6560-50-P